DEPARTMENT OF THE INTERIOR

Fish and Wildlife Service

[FWS-HQ-ES-2025-N026; FF09E41000-256-FXES11130900000]

Endangered and Threatened Species; Issuance of Enhancement of Survival and Incidental Take Permits for Safe Harbor Agreements, Candidate Conservation Agreements, Conservation Plans, and Recovery Activities; January 1, 2024, Through December 31, 2024

AGENCY: Fish and Wildlife Service, Interior.

ACTION: Notice.

SUMMARY: We, the U.S. Fish and Wildlife Service (Service), in accordance with the Endangered Species Act (ESA), provide a list to the public of permits issued under the ESA. With some exceptions, the ESA prohibits take of listed species unless a Federal permit is issued that authorizes or exempts the taking under the ESA. We provide this list to the public as a summary of our permit issuances for candidate conservation agreements with assurances, safe harbor agreements, conservation benefit agreements, habitat conservation plans, and recovery activities for calendar year 2024.

FOR FURTHER INFORMATION CONTACT: For general information about the ESA permit process, contact Diana Kramer, via phone at 703-358-1874 or via email at diana_kramer@fws.gov. For information on specific permits, see the contact information below in Permits Issued. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), provide a list to the public of the permits issued under sections 10(a)(1)(A) and 10(a)(1)(B) of the Endangered Species Act of 1973 (ESA; 16 U.S.C. 1531 et seq.), as amended. The lists of 10(a)(1)(A) permits are published in accordance with section 10(d) of the ESA, and the lists of 10(a)(1)(B) permits are published in accordance with chapter 16 of the Habitat Conservation Planning Handbook (December 21, 2016; 81 FR 93702), developed by the Service in cooperation with the National Marine Fisheries Service, and available at https://www.fws.gov/media/habitat-conservation-planning-and-incidental-take-permit-processing-handbook.

With some exceptions, the ESA prohibits take of listed species unless a Federal permit is issued that authorizes the taking, or the take is exempted through section 7 of the ESA. In 2024, we revised the implementing regulations for ESA section 10(a) related to enhancement of survival permits supported by candidate conservation agreements with assurances (CCAAs) and safe harbor agreements (SHAs) (50 CFR 17.22(c) and (50 CFR 17.32 (c) and (d)), to combine the CCAAs and SHAs into one type of conservation agreement, called a conservation benefit agreement (CBA) (89 FR 26070; April 12, 2024). Therefore, permits listed in this notice include CCAAs and SHAs issued prior to the regulation change, and CBAs issued after the regulation change.

Background

Under the authority of section 10(a)(1)(A) of the ESA, we may issue permits for any act otherwise prohibited by section 9 for scientific purposes or to enhance the propagation or survival of the affected species, including acts necessary for the establishment and maintenance of experimental populations. These permits must be issued in accordance with the purposes and policy of the ESA. The purposes of the ESA, as described in section 2(b), are to provide a means whereby the ecosystems upon which endangered species and threatened species depend may be conserved, to provide a program for the conservation of such endangered species and threatened species, and to take such steps as may be appropriate to achieve the purposes of treaties and conventions. Furthermore, the ESA describes the policy of Congress, in section 2(c), to be that all Federal departments and agencies shall seek to conserve endangered species and threatened species and shall utilize their authorities in furtherance of the purposes of the ESA. The terms “conserve,” “conserving,” and “conservation” mean to use, and the use of, all methods and procedures which are necessary to bring any endangered species or threatened species to the point at which the measures provided pursuant to the ESA are no longer necessary. We equate “recovery” with the definition of “conserve” and define “recovery” as improvement in the status of listed species to the point at which listing is no longer appropriate under criteria set out in section 4(a)(1) of the ESA. Therefore, we may issue enhancement of survival permits to conduct activities that provide a conservation benefit for endangered or threatened species, or for unlisted species should they become listed in the future, in response to permit applications that we received in conjunction with a SHA, CCAA, or CBA. We may also issue recovery permits under ESA section 10(a)(1)(A) to allow for purposeful take as part of activities intended to foster the recovery of listed species.

Under ESA section 10(a)(1)(B), we may issue permits for any taking otherwise prohibited by ESA section 9 if such taking is incidental to, and not the purpose of, carrying out an otherwise lawful activity (known as an incidental take permit (ITP)) and the permit applicant submits an HCP that meets the permit issuance criteria under section 10(a)(2)(B). Typically, applicants seek an ITP to conduct activities such as residential and commercial development, infrastructure development or maintenance, and energy development projects that range in scale from small to landscape-level planning efforts.

The permits associated with SHAs, CCAAs, CBAs, HCPs, and recovery activities that we issued between January 1 and December 31, 2024, are listed below.

Under section 10(a)(1)(A), we issued each permit only after we determined that it was applied for in good faith; that granting the permit would not be to the disadvantage of the listed species, or to the unlisted species should they be listed; that the proposed activities would benefit the recovery or the enhancement of survival of the species; and that the terms and conditions of the permits were consistent with the purposes and policy set forth in the ESA.

Under section 10(a)(1)(B), we issued permits only after we determined that the applicant was eligible and had submitted a complete application and HCP that fully met the permit issuance criteria consistent with section 10(a)(2)(B).

Permits Issued

Region 1 (Hawaii, Idaho, Oregon (Except for the Klamath Basin), Washington, American Samoa, Commonwealth of the Northern Mariana Islands, Guam, and the Pacific Trust Territories)

The following permits, sorted by type of permit or agreement and date issued in the table below, were applied for and issued by the Regional office responsible for section 10 permitting in the States and territories listed above.

HCPs, CCAAs, SHAs, and CBAs

For more information about HCP, CCAA, SHA, or CBA permits, contact: ITEOSpermitsR1ES@fws.gov or by phone at 503-231-6131.

Recovery Permits

For more information about any of the following recovery permits, contact the Recovery Permit Coordinator by email at PermitsR1ES@fws.gov or by telephone at 503-231-6131.

BILLING CODE 4333-15-P

Region 2 (Arizona, New Mexico, Oklahoma, and Texas)

The following permits, sorted by type of permit or agreement and date issued in the table below, were applied for and issued by the Regional office responsible for section 10 permitting in the States listed above.

HCPs, CCAAs, SHAs, and CBAs

For more information about HCP, CCAA, SHA, or CBA permits, contact: FW2_HCP_Permits@fws.gov or by telephone at 505-248-6651.

Recovery Permits

For more information about any of the following recovery permits, contact the Recovery Permit Coordinator by email at PermitsR2ES@fws.gov or by telephone at 505-248-6649.

Region 3 (Illinois, Indiana, Iowa, Michigan, Minnesota, Missouri, Ohio, and Wisconsin)

The following permits, sorted by type of permit or agreement and date issued in the table below, were applied for and issued by the Regional office responsible for section 10 permitting in the States listed above.

HCPs, CCAAs, SHAs, and CBAs

For more information about HCP, CCAA, SHA, or CBA permits, contact: permitsR3ES@fws.gov or by telephone at 612-713-5343.

Recovery Permits

For more information about any of the following recovery permits, contact the Recovery Permit Coordinator by email at PermitsR3ES@fws.gov or by telephone at 612-713-5343.

Region 4 (Alabama, Arkansas, Florida, Georgia, Kentucky, Louisiana, Mississippi, North Carolina, South Carolina, Tennessee, the Commonwealth of Puerto Rico, and the U.S. Virgin Islands)

The following permits, sorted by type of permit or agreement and date issued in the table below, were applied for and issued by the Regional office responsible for section 10 permitting in the States and territories listed above.

HCPs, CCAAs, SHAs, and CBAs

For more information about HCP, CCAA, SHA, or CBA permits contact: fw4_hcp_permits@fws.gov or by telephone at 404-679-7313.

Recovery Permits

For more information about any of the following recovery permits, contact the Recovery Permit Coordinator by email at PermitsR4ES@fws.gov or by telephone at 404-679-7097.

Region 5 (Connecticut, Delaware, District of Columbia, Maine, Maryland, Massachusetts, New Hampshire, New Jersey, New York, Pennsylvania, Rhode Island, Vermont, Virginia, and West Virginia)

HCPs, CCAAs, SHAs, and CBAs

The following permits, sorted by type of permit or agreement and date issued in the table below, were applied for and issued by the Regional office responsible for section 10 permitting in the States and territories listed above.

For more information about HCP, CCAA, SHA, or CBA permits, contact: permitsR5ES@fws.gov or 413-253-8630.

Recovery Permits

For more information about any of the following recovery permits, contact the Recovery Permit Coordinator by email at PermitsR5ES@fws.gov or by telephone at 413-253-8212.

Region 6 (Colorado, Kansas, Montana, Nebraska, North Dakota, South Dakota, Utah, and Wyoming)

The following permits, sorted by type of permit or agreement and date issued in the table below, were applied for and issued by the Regional office responsible for section 10 permitting in the States listed above.

HCPs, CCAAs, SHAs, and CBAs

For more information about HCP, CCAA, SHA, or CBA permits, contact: PermitsR6ES@fws.gov or by telephone at 303-236-7905.

Recovery Permits

For more information about any of the following recovery permits, contact the Recovery Permit Coordinator by email at PermitsR6ES@fws.gov, or by telephone at 303-236-4224.

Region 7 (Alaska)

No associated permits were issued in Region 7 (Alaska) in 2024.

Region 8 (California, Nevada, and the Klamath Basin Portion of Oregon)

The following permits, sorted by type of permit or agreement and date issued in the table below, were applied for and issued by the Regional office responsible for section 10 permitting in the States and region listed above.

HCPs, CCAAs, SHAs, and CBAs

For more information about HCP, CCAA, SHA, or CBA permits, contact: ITEOSpermitsR8ES@fws.gov.

Recovery Permits

For more information about any of the following recovery permits, contact the Recovery Permit Coordinator by email at PermitsR8ES@fws.gov or by telephone at 916-414-6464.

Availability of Documents

You may request copies of the Federal Register documents publishing the receipt of applications for these permits from the office that issued the permit (see contact information for appropriate regions, above). Documents and other information submitted with these applications are available for review subject to the requirements of the Privacy Act (5 U.S.C. 552a) and Freedom of Information Act (5 U.S.C. 552), by any party who submits a written request for a copy of such documents.

Authority

We provide this notice under the authority of section 10 of the Endangered Species Act (16 U.S.C. 1531 et seq.).

Gina Shultz,
Acting Assistant Director for Ecological Services, U.S. Fish and Wildlife Service.

[FR Doc. 2025-21886 Filed 12-3-25; 8:45 am]

BILLING CODE 4333-15-C